DEPARTMENT OF JUSTICE

Immigration and Naturalization Service

Agency Information Collection Activities: Proposed Collection; Comment Request

ACTION: 30-day notice of information collection under review: HRIFA Supplement to Form I-485 Instructions; Form I-485C.

The Department of Justice, Immigration and Naturalization Service (INS) has submitted the following information collection request to the Office of Management and Budget (OMB) for review and clearance in accordance with the Paperwork Reduction Act of 1995. The information collection was previously published in the Federal Register on August 28, 2002 at 67 FR 55275, allowing for a 60-day public review and comment period. The INS received no public comments regarding this information collection. The INS is now requesting a 3-year extension on the currently approved information collection.

The purpose of this notice is to allow an additional 30 days for public comments. Comments are encouraged and will be accepted until December 5, 2002. This process is conducted in accordance with 5 CFR 1320.10.

Written comments and/or suggestions regarding the items contained in this notice, especially regarding the estimated public burden and associated response time, should be directed to the Office of Management and Budget, Office of Information and Regulatory Affairs, Attention: Department of Justice Desk Officer, 725 17th Street, NW., Room 10235, Washington, DC 20530.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of currently approved collection.

(2) Title of Form/Collection: HRIFA Supplement to Form I-485 Instructions.

(3) Agency form number, if any, and the applicable component of the Department of Justice sponsoring the collection: Form I-485 Supplement C. Adjudications Division, Immigration and Naturalization Service.

(4) Affected public who will be asked or required to respond, as well as a brief abstract: Primary: Individuals or households. This application is used to determine whether an alien applying for adjustment of status under the provisions of section 902 of Division A, Title IX of Public Law 105-277 is eligible to become a permanent resident of the United States.

(5) An estimate of the total number of respondents and the amount of time estimated for an average respondent to respond: 50,000 responses at approximately 30 minutes per response.

(6) An estimate of the total public burden (in hours) associated with the collection: 25,000 annual burden hours.

If you have additional comments, suggestions, or need a copy of the proposed information collection instrument with instructions, or additional information, please contact Richard A. Sloan (202) 514-3291, Director, Regulations and Forms Services Division, Immigration and Naturalization Service, U.S. Department of Justice, Room 4034, 425 I Street, NW., Washington, DC 20536.

If additional information is required contact: Mr. Robert B. Briggs, Clearance Officer, United States Department of Justice, Information Management and Security Staff, Justice Management Division, 601 D Street, NW., Patrick Henry Building, Suite 1600, Washington, DC 20004.

Dated: October 30, 2002.
Richard A. Sloan,
Department Clearance Officer, United States Department of Justice, Immigration and Naturalization Service.

[FR Doc. 02-28041 Filed 11-4-02; 8:45 am]

BILLING CODE 4410-10-M